NUCLEAR REGULATORY COMMISSION

[Docket No. 52-017]

Dominion Nuclear Power, LLC; North Anna Power Station Combined License Application; Notice of Intent To Prepare an Environmental; Impact Statement and Conduct Scoping Process

Dominion Nuclear Power, LLC (Dominion), has submitted an application for a combined license (COL) for its North Anna Power Station (NAPS or North Anna) site to build Unit 3, located in Louisa County, Virginia, approximately 40 miles north northwest of Richmond. The application for the COL was submitted by letter dated November 26, 2007, pursuant to the requirements of Title 10, Part 52. A notice of receipt and availability of the application, which included the environmental report (ER), was published in the Federal Register on December 12, 2007 (72 FR 70616). A notice of acceptance for docketing of the application for the COL was published in the Federal Register on February 4, 2008 (73 FR 6528). The purpose of this notice is to inform the public that the U.S. Nuclear Regulatory Commission (NRC) will be preparing an environmental impact statement (EIS) in support of the review of the COL application and to provide the public an opportunity to participate in the environmental scoping process, as described in 10 CFR 51.29.

In addition, as outlined in 36 CFR 800.8(c), “Coordination with The National Environmental Policy Act” the NRC staff intends to use the process and documentation required for the preparation of an EIS to the comply with section 106 of the National Historic Preservation Act, in lieu of the procedures set forth in 36 CFR 800.3 through 800.6.

In accordance with 10 CFR 51.45 and 10 CFR 51.50, Dominion submitted the ER as part of the application. The ER was prepared pursuant to 10 CFR Parts 51 and 52 and is available for public inspection at the NRC Public Document Room (PDR), located at One White Flint North, 11555 Rockville Pike (first floor), Rockville, Maryland, or from the Publicly Available Records component of the NRC's Agencywide Documents Access and Management System (ADAMS). ADAMS is accessible at: http://www.nrc.gov/reading-rm/adams.html, which provides access through the NRC's Electronic Reading Room (ERR) link. The accession number in ADAMS for the ER is ML073321238. Persons who do not have access to ADAMS or who encounter problems in accessing the documents located in ADAMS should contact the NRC's PDR Reference staff at 1-800-397-4209 or 301-415-4737, or by sending an e-mail to pdr@nrc.gov. The application may also be viewed on the Internet at: http://www.nrc.gov/reactors/new-licensing/col/north-anna.html. In addition, the Jefferson-Madison Regional Library in Mineral, Virginia; Hanover Branch Library in Hanover, Virginia; Orange County Library in Orange, Virginia; Salem Church Library in Fredericksburg, Virginia; and C. Melvin Snow Memorial Branch Library in Spotsylvania, Virginia have agreed to make the ER available for public inspection.

The following key reference documents related to the COL application and the NRC staff's review process are available through the NRC's Web site at: http://www.nrc.gov:

a. 10 CFR Part 51, Environmental Protection Regulations for Domestic Licensing and Related Regulatory Functions,

b. 10 CFR Part 52, Licenses, Certifications, and Approvals for Nuclear Power Plants,

c. 10 CFR Part 100, Reactor Site Criteria,

d. NUREG-1555, Standard Review Plans for Environmental Reviews for Nuclear Power Plants,

e. NUREG/BR-0298, Brochure on Nuclear Power Plant Licensing Process,

f. Fact Sheet on Nuclear Power Plant Licensing Process,

g. Regulatory Guide 4.2, Preparation of Environmental Reports for Nuclear Power Stations,

h. Regulatory Guide 1.206, Combined License Applications for Nuclear Power Plants, and

i. NRR Office Instruction LIC-203, Procedural Guidance for Preparing Environmental Assessments and Considering Environmental Issues.

The regulations, NUREG-series documents, regulatory guides, and fact sheet can be found under Document Collections in the Electronic Reading Room on the NRC Web page. Finally, Office Instruction LIC-203 can be found in ADAMS in two parts under accession numbers ML011710073 (main text) and ML011780314 (charts and figures).

This notice advises the public that the NRC intends to gather the information necessary to prepare an EIS in support of the review of the application for the COL at the North Anna COL site. Possible alternatives to the proposed action (issuance of the COL at the NAPS COL site) include no action and consideration of alternative sites.

The NRC is required by 10 CFR 51.20(b)(2) to prepare an EIS in connection with the issuance of a COL. This notice is being published in accordance with the National Environmental Policy Act of 1969 (NEPA) and NRC regulations found in 10 CFR Part 51.

The NRC will first conduct a scoping process for the EIS and, as soon as practicable thereafter, will prepare a draft EIS for public comment. Participation in the scoping process by members of the public and local, State, Tribal, and Federal government agencies is encouraged. The scoping process for the EIS will be used to accomplish the following:

a. Define the proposed action which is to be the subject of the EIS;

b. Determine the scope of the EIS and identify the significant issues to be analyzed in depth;

c. Identify and eliminate from detailed study those issues that are peripheral or that are not significant;

d. Identify any environmental assessments and other EISs that are being or will be prepared that are related to, but are not part of the scope of the EIS being considered;

e. Identify other environmental review and consultation requirements related to the proposed action;

f. Identify parties consulting with the NRC under the NHPA, as set forth in 36 CFR 800.8(c)(1)(i);

g. Indicate the relationship between the timing of the preparation of the environmental analyses and the Commission's tentative planning and decision-making schedule;

h. Identify any cooperating agencies and, as appropriate, allocate assignments for preparation and schedules for completing the EIS to the NRC and any cooperating agencies; and

i. Describe how the EIS will be prepared and include any contractor assistance to be used.

The NRC invites the following entities to participate in the scoping process:

a. The applicant, Dominion;

b. Any Federal agency that has jurisdiction by law or special expertise with respect to any environmental impact involved or that is authorized to develop and enforce relevant environmental standards;

c. Affected State and local government agencies, including those authorized to develop and enforce relevant environmental standards;

d. Any affected Indian tribe;

e. Any person who requests or has requested an opportunity to participate in the scoping process; and

f. Any person who intends to petition for leave to intervene.

In accordance with 10 CFR 51.26, the scoping process for an EIS may include a public scoping meeting to help identify significant issues related to a proposed activity and to determine the scope of issues to be addressed in an EIS. The NRC will hold a public scoping meeting for the EIS regarding the North Anna COL application on Wednesday, April 16, 2008, at the Louisa County High School, 757 Davis Highway, Mineral, Virginia.

The meeting will convene at 7 p.m. and will continue until approximately 10 p.m. The meeting will be transcribed and will include: (1) An overview by the NRC staff of the NEPA environmental review process, the proposed scope of the EIS, the proposed review schedule, and (2) the opportunity for interested government agencies, organizations, and individuals to submit comments or suggestions on the environmental issues or the proposed scope of the EIS. Additionally, the NRC staff will host an informal discussion one hour before the start of the meeting. No formal comments on the proposed scope of the EIS will be accepted during the informal discussion open house. To be considered, comments must be provided either at the transcribed public meeting or in writing, as discussed below. Persons may register to attend or present oral comments at the meeting on the scope of the NEPA review by contacting Ms. Alicia Williamson or Ms. Laura Quinn at 1-800-368-5642, extension 1878 or 2220, respectively. In addition, persons can register via e-mail to the NRC at: NORTHANNA.COLAEIS@nrc.gov, no later than April 10, 2008.

Members of the public may also register to speak at the meeting within 15 minutes of the start of the meeting. Individual oral comments may be limited by the time available, depending on the number of persons who register. Members of the public who have not registered may also have an opportunity to speak, if time permits. Public comments will be considered in the scoping process for the EIS. Ms. Williamson or Ms. Quinn will need to be contacted no later than April 7, 2008, if special equipment or accommodations are needed to attend or present information at the public meeting, so that the NRC staff can determine whether the request can be accommodated.

Members of the public may send written comments on the scope of the North Anna COL environmental review to the Chief, Rulemaking, Directives, and Editing Branch, Division of Administrative Services, Office of Administration, Mailstop T-6D59, U.S. Nuclear Regulatory Commission, Washington, DC 20555-0001 and should cite the publication date and page number of this Federal Register notice. Comments may also be delivered to Room T-6D59, Two White Flint North, 11545 Rockville Pike, Rockville, Maryland from 7:30 a.m. to 4:15 p.m., during Federal workdays. To be considered in the scoping process, comments should be received by the end of the scoping comment period, which is May 16, 2008. Written comments should be postmarked by date May 16, 2008. Electronic comments may be sent via the Internet to the NRC at NORTHANNA.COLAEIS@nrc.gov.

Submissions should be sent no later than May 16, 2008, to be considered in the scoping process. Comments will be available in the meeting summary report electronically and accessible through the NRC's ERR link at http://www.nrc.gov/reading-rm/adams.html.

Participation in the scoping process for the EIS does not entitle participants to become parties to the proceeding to which the EIS relates. Notice of a hearing regarding the application for a COL will be the subject of a future Federal Register notice.

At the conclusion of the scoping process, the NRC staff will prepare a concise summary of the determination and conclusions reached including the significant issues identified, and will send a copy of the summary to each participant in the scoping process. The summary will also be available for inspection through the NRC's ERR link. The staff will then prepare and issue for comment the draft EIS, which will be the subject of separate Federal Register notices and a separate public meeting. A copy of the draft EIS will be available for public inspection at the above-mentioned address, and one copy per request will be provided free of charge. After receipt and consideration of the comments, the NRC staff will prepare a final EIS, (which will also be available for public inspection). Information about the proposed EIS and the scoping process may be obtained from Ms. Alicia Williamson, Environmental Project Manager, 301-415-1878.

Dated at Rockville, Maryland, this 7th day of March 2008.
For the Nuclear Regulatory Commission.
James E. Lyons,
Division Director, Division of Site and Environmental Reviews, Office of New Reactors.

[FR Doc. E8-5009 Filed 3-12-08; 8:45 am]

BILLING CODE 7590-01-P